DEPARTMENT OF TRANSPORTATION

Federal Railroad Administration

[Docket No. FRA 2016-0002-N-4]

Proposed Agency Information Collection Activities; Comment Request

AGENCY: Federal Railroad Administration (FRA), Department of Transportation.

ACTION: Notice and request for comments.

SUMMARY: FRA hereby gives notice that it is submitting the following information collection request (ICR) to the Office of Management and Budget (OMB) for Emergency Processing under the Paperwork Reduction Act of 1995. FRA requests that OMB authorize the collection of information identified below seven days after publication of this Notice for a period of 180 days.

FOR FURTHER INFORMATION CONTACT: Mr. Robert Brogan, Information Collection Clearance Officer, Regulatory Safety Analysis Division, RRS-21, Federal Railroad Administration, 1200 New Jersey Ave. SE., Mail Stop 25, Washington, DC 20590 (telephone: (202) 493-6292) or Ms. Kimberly Toone, Information Collection Clearance Officer, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Organizations and individuals desiring to submit comments on these information collection requirements should send them directly to the Office of Management and Budget, Office of Information and Regulatory Affairs, 725 17th St. NW., Washington, DC 20503, Attention: FRA Desk Officer. Comments may also be sent via email to the Office of Management and Budget at the following address: oira_submissions@omb.eop.gov.

Below is a brief summary of the currently approved ICR that FRA will submit for clearance by OMB as required under the PRA:

Title: Bridge Safety Standards.

OMB Control Number: 2130-0586.

Abstract: On July 15, 2010, FRA published its Bridge Safety Standards Final Rule. See 75 FR 41281. The final rule on bridge safety standards normalized and established federal requirements for railroad bridges. The final rule established minimum requirements to assure the structural integrity of railroad bridges and to protect the safe operation of trains over those bridges. The final rule required railroads/track owners to implement bridge management programs to prevent the deterioration of railroad bridges and to reduce the risk of human casualties, environmental damage, and disruption to the Nation's transportation system that would result from a catastrophic bridge failure. Bridge management programs were required to include annual inspection of bridges as well as special inspections, which must be conducted if natural or accidental events cause conditions that warrant such inspections. Lastly, the final rule required railroads/track owners to audit bridge management programs and bridge inspections and to keep records mandated under 49 CFR part 237. This final rule culminated FRA's efforts to develop and promulgate bridge safety regulations and fulfilled the Railroad Safety Improvement Act of 2008 (Pub. L. 110-432, Division A) mandate.

The information collected is used by FRA to ensure that railroads/track owners meet Federal standards for bridge safety and comply with all the requirements of this regulation. In particular, the collection of information is used by FRA to confirm that railroads/track owners adopt and implement bridge management programs to properly inspect, maintain, modify, and repair all bridges that carry trains over them for which they are responsible. Railroads/track owners must conduct annual inspections of railroad bridges. Further, railroads/track owners must incorporate provisions for internal audit into their bridge management program and must conduct internal audits of bridge inspection reports. The internal audit information is used by railroads/track owners to verify that the inspection provisions of the bridge management program are being followed and to continually evaluate the effectiveness of their bridge management program and bridge inspection activities. FRA uses this information to ensure that railroads/track owners implement a safe and effective bridge management program and bridge inspection regime.

On December 4, 2015, President Obama signed into law the Fixing America's Surface Transportation Act (FAST Act) (Pub. L. 114-94). Section 11405, “Bridge Inspection Reports,” provides a means for a State or a political subdivision of a State to obtain a public version of a bridge inspection report generated by a railroad for a bridge located within their respective jurisdiction. While the FAST Act specifies that requests for such reports are to be filed with the Secretary of Transportation, the responsibility for fulfilling these requests is delegated to FRA. See 49 CFR 1.89.

FRA is revising its currently approved information collection to account for the additional burden that will be incurred by States and political subdivisions of States requesting a public version of a bridge inspection report generated by a railroad for a bridge located within their respective jurisdiction. FRA has developed a new Form titled “Bridge Inspection Report Public Version Request Form” to facilitate such requests by States and their political subdivisions. Additionally, FRA is revising its currently approved information collection to account for the additional burden that will be incurred by railroads to provide the public version of a bridge inspection report upon agency request to FRA.

As provided under 49 CFR 1320.13, FRA is requesting emergency processing for this new collection of information as specified in the Paperwork Reduction Act of 1995 and its implementing regulations. FRA cannot reasonably comply with normal clearance procedures since they would be reasonably likely to disrupt the collection of information. With the recent passage of the FAST Act, FRA expects States and their political subdivisions to immediately request a public version of bridge inspection reports that affect critical infrastructure within their jurisdiction to ensure public safety. Upon receipt of such requests, FRA will require railroads to submit to the agency a public version of the most recent bridge inspection report. Therefore, FRA is requesting OMB approval as soon as possible (i.e., 7 days after publication of this Notice) for this collection of information.

Form Number(s): FRA F 6180.167.

Affected Public: States/Political Subdivisions of States and Businesses.

Respondent Universe: 50 States/State Political Subdivisions and 693 Railroads.

Frequency of Submission: On occasion.

Reporting Burden
CFR section | Respondent universe | Total annual responses | Average time per response | Total annual burden hours
NEW FAST ACT REQUIREMENTS:
—Form FRA F 6180.167 | 50 States/State Political Subdivision | 75 forms | 5 minutes | 6
—Railroad Submission to FRA of Bridge Inspection Report—Public Version | 693 Railroads | 75 reports | 60 minutes | 75
237.3—Notifications to FRA of Assignment of Bridge Responsibility | 693 Railroads | 15 notifications | 90 minutes | 22.5
—Signed Statement by Assignee Concerning Bridge Responsibility | 693 Railroads | 15 signed statements | 30 minutes | 7.5
237.9—Waivers—Petitions | 693 Railroads | 6 petitions | 4 hours | 24
23731/33—Development/Adoption of Bridge Management Program | 693 Railroads | 5 plans | 24 hours | 120
237.57—Designation of Qualified Individuals | 693 Railroads | 1,000 designations | 30 minutes | 400
237.71—Determination of Bridge Load Capacities | 693 Railroads | 2,000 determinations | 8 hours | 16,000
237.73—Issuance of Instructions to Railroad Personnel by Track Owner | 693 Railroads | 2,000 instructions | 2 hours | 4,000
237.105—Special Bridge Inspections and Reports/Records | 693 Railroads | 7,500 insp. and reports/records | 12.50 hours | 93,750
—Special Underwater Inspections | 693 Railroads | 50 insp. and Reports/rcds | 40 hours | 2,000
237.107 and 237.109—Nationwide Annual Bridge Inspections—Reports | 693 Railroads | 15,450 insp. & reports | 4 hours | 61,800
—Records | 693 Railroads | 15,450 records | 1 hour | 15,450
—Report of Deficient Condition on a Bridge | 693 Railroads | 50 reports | 30 minutes | 25
237.111—Review of Bridge Inspection Reports by RR Bridge Engineers | 693 Railroads | 2,000 insp. rpt. reviews | 30 minutes | 1,000
—Prescription of Bridge Insp. Procedure Modifications After Review | 693 Railroads | 200 insp. proc. modifications | 30 minutes | 100
237.131—Design of Bridge Modifications or Bridge Repairs | 693 Railroads | 1,250 designs | 16 hours | 20,000
—Bridge Modification Repair Reviews/Supervisory Efforts | 693 Railroads | 1,250 br. mod. repair reviews | 1.50 hours | 1,875
—Common Standard Designed by Railroad Bridge Engineer | 693 Railroads | 50 standards | 24 hours | 1,200
237.153—Audits of Inspections | 693 Railroads | 725 insp. audits | 80 hours/24 hours/6 hours | 5,534
237.155—Documents and Records:
—Establishment of RR Monitoring and Info. Technology Security Systems for Electronic Recordkeeping | 693 Railroads | 5 systems | 80 hours | 400
—Employees Trained in System | 693 Railroads | 100 employees | 8 hours | 800

Total Estimated Responses for New FAST Act Requirements: 150.

Total Estimated Responses for Entire Information Collection: 49,271.

Total Estimated Total Annual Burden for New FAST Act Requirements: 81 hours.

Total Estimated Total Annual Burden Entire Information Collection: 224,689 hours.

Type of Request: Emergency Clearance to the revision of a currently approved information collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on February 9, 2016.
Corey Hill,
Acting Executive Director.

[FR Doc. 2016-02892 Filed 2-11-16; 8:45 am]

BILLING CODE 4910-06-P